DEPARTMENT OF TRANSPORTATION

Federal Highway Administration

23 CFR Part 657

[FHWA Docket No. FHWA-97-2219; 93-28]

RIN 2125-AC60

State Certification of Size and Weight Enforcement

AGENCY: Federal Highway Administration (FHWA), DOT.

ACTION: Termination of proposed rulemaking.

SUMMARY: This document terminates a rulemaking proceeding to amend the Federal Highway Administration (FHWA) regulation covering State certification of size and weight enforcement of commercial motor vehicles. The agency initiated this action to consider revising the criteria for determining State compliance with existing Federal requirement for an annual certification of State size and weight enforcement. Recently, however, the National Research Council of the Transportation Research Board (TRB) issued a congressionally mandated report that, among other things, recommended revised Federal weight standards and further recommended additional study be undertaken of ways to improve enforcement of truck weight laws. The recommendations of the TRB report provide a basis for a broader review of the Federal and State truck size and weight programs. In light of this situation, we are terminating this rulemaking action and closing the docket.

FOR FURTHER INFORMATION CONTACT: Mr. Robert Davis, Office of Freight Management and Operations (202) 366-2997, or Mr. Raymond Cuprill, Office of the Chief Counsel (202) 366-0791, Federal Highway Administration, 400 Seventh Street, SW., Washington, DC 20590. Office hours are from 7:45 a.m. to 4:15 p.m., e.t., Monday through Friday, except Federal holidays.

Background

Since 1975, States have been required under 23 U.S.C. 141, to certify annually that they are enforcing their laws respecting maximum vehicle size and weight in order to receive their full entitlement of Federal-aid highway funds. Regulatory implementation of section 141 is found at 23 CFR Part 657, Certification of Size and Weight Enforcement. Except for technical corrections necessitated by statutory changes, the current content of part 657 has remained unchanged since publication in the Federal Register on August 7, 1980, at 45 FR 52365.

Since that time the motor carrier industry as well as State enforcement efforts have undergone substantial change. Recognizing these changes, the Federal Highway Administration published an advance notice of proposed rulemaking (ANPRM) [58 FR 65830, December 16, 1993], as the first step in revising and updating the requirements of part 657.

In June 1994, as the FHWA began review and consideration of the comments received, then Federal Highway Administrator Rodney Slater committed the FHWA to a comprehensive review of all aspects of the truck size and weight issue. Since the Agency was now committed to a comprehensive review of truck size and weight issues, it decided to postpone further action on this rulemaking until the comprehensive study could review existing issues. When the study was at the point where it was clear that it would not contain any recommendations in the area of enforcement certification, the Agency resumed work on this effort.

On September 28, 2000, at 65 FR 58233, the FHWA issued a supplemental advance notice of proposed rulemaking (SANPRM), asking for comments on a number of issues affecting the way in which State size and weight enforcement programs are certified. Most of the issues raised were the same as those discussed in the 1993 ANPRM. The objective was to update information on State programs, provide an opportunity for respondents to the SANPRM to review the validity of the earlier comments, and give interested parties the opportunity to present new ideas, concepts, and information that they believe the FHWA should consider in revising the certification process. The SANPRM posed 11 questions on various topics dealing with State certification of size and weight program activities, including: Possible data system needs; standardization of practices concerning scale tolerances, fees, fines, and staff training; application of technologies; and specific treatment of special vehicle types.

Just as the FHWA was to issue an NPRM, the National Research Council of the Transportation Research Board (TRB) provided to Congress its Special Report 267, “Regulation of Weights, Lengths, and Widths of Commercial Motor Vehicles.” ¹ This report describes a number of potential actions that public and private sector officials may wish to consider. These include “organizational arrangements” that would promote the reforming of Federal size and weight regulations affecting commercial motor vehicles, as well as regulatory and managerial changes intended to both improve the efficiency of truck transportation and reduce the public cost of truck traffic.

¹ Transportation Research Board, “Regulation of Weights, Lengths, and Widths of Commercial Motor Vehicles,” June 2002, National Research Council, Special Report 267. Available online at http://www.nationalacademies.org/trb/onlinepubs.nsf.

Discussion of Comments to the SANPRM

Thirty-four interested parties submitted written comments to the SANPRM: a bi-partisan delegation from the U.S. Congress; 12 State departments of transportation; 6 State enforcement agencies; 2 county sheriff's departments; 1 State law enforcement association; 1 county commissioner; one city council; 3 highway safety advocacy groups [includes the Commercial Vehicle Safety Alliance (CVSA)]; 3 representatives of national and State automobile organizations; 2 representatives of national and State trucking organizations; an interstate truck driver; and 1 trucking equipment manufacturer association.

There was a distinct divergence of positions among the respondents on almost all issues, with the exception being the almost universal consensus that size and weight enforcement is indeed an integral part of commercial vehicle safety programs, in addition to its traditional infrastructure preservation focus, and should be formally recognized and supported as such. As the American Automobile Association (AAA) noted in its response, public safety, as well as infrastructure preservation, must be considered in the regulation of commercial vehicle size and weight. Some respondents supported more aggressive State size and weight enforcement, standardization of enforcement requirements among the States, improved tracking of permit operations and expanded application of data systems to determine wear and tear associated with legal and illegal overweight vehicle operations, elimination of multi-trip permits, greater fines, and greater application of resources to enforcement efforts. Others were somewhat less demanding of change. They suggested one of two choices based on their experience: either the current certification and enforcement process is generally effective in monitoring overweight operations and therefore needs minimal or no alteration, or that it could be improved by increased Federal funding of State operations and greater Federal assistance in providing “best practices” to State and local enforcement officials. The specifics of these opinions are detailed below.

General Comments by Respondents

In addition to addressing the 11 questions posed in the SANPRM, respondents also submitted general comments about the current practices and needs of State size and weight enforcement programs. A significant concern, expressed by a number of respondents, is the result of an unintended consequence of Federal laws on truck size and weight. According to respondents, the fact that Federal weight law applies only on Interstate highways,² with Federal size laws applying on the National Network (NN),³ has resulted in an unintended diversion of overweight violators onto non-Interstate and often non-NN State and local highways. These alternative roadways are inherently less safe, are made more so by the violators' passage, and are more vulnerable to structural damage than the major systems being avoided. Greater Federal support of mobile enforcement efforts, including State use of mobile scales and electronic weighing, was therefore advocated to reduce by-pass efforts by overweight operators.

² Interstate highways are defined in 23 U.S.C. 103, as a series of highways designed to connect America's “principal metropolitan areas, cities and industrial centers” and “serve the national defense.”

³ The National Network is defined under 23 CFR Part 658, “Truck Size and Weight, Route Designations “Length, Width and Weight Limitations,” as the composite of the individual network of highways from each State on which vehicles authorized by the provisions of the Surface Transportation Assistance Act of 1982 are allowed to operate. The network in each State includes the Interstate System, exclusive of those portions excepted under Section 658.11(f) or deleted under Section 653.11(d), and those portions of the Federal-aid Primary System in existence on June 1, 1991, as set out by the FHWA in Appendix A of Part 658.

The current FHWA certification program was directly criticized by both members of a bipartisan U.S. House of Representatives group opposed to truck size and weight increases, and by the Advocates for Highway and Auto Safety (AHAS). The congressional group expressed concern about inadequate Federal oversight of State programs. The congressional delegation called for “new and effective systems for ensuring that State permitting practices are not used as a means of circumventing Federal standards' and thereby permit “back door” increases in vehicle weight. The AHAS criticized the rulemaking effort itself as a “dilatory treatment” of present day commercial vehicle safety issues, calling it another delay in response to repeated congressional calls for reliable information about the effects of commercial vehicles on road safety and infrastructure.

Other respondents posed differing comments, typically addressing general policy concerns, as the following: (1) The overall need to strengthen certification requirements; (2) the appropriateness of current road tax structures, calling overweight vehicles' failure to pay their fair share for the damage they do “fundamentally unfair'; (3) the need for Federal funds to support “best practices,” new technologies, and new data systems for State usage in monitoring overweight vehicle operations; (4) the need for flexibility in enforcement plans, in order to help States develop workable strategies that best meet individual State's needs; (5) the necessity of weighing all vehicles, including those vehicles now using technologies that allow by-passing of way stations; and (6) perhaps conversely, the need for procedures that help identify and capture the true violator without requiring that every commercial vehicle be stopped and weighed.

In June 2002, the TRB provided to Congress its mandated report on commercial vehicle truck size and weight, “Special Report 267, Regulation of Weights, Lengths, and Widths of Commercial Motor Vehicles.” In it, the TRB called on the Congress to create an independent public organization to lead a broad-ranging program of research and assessment of current truck size and weight regulation; facilitate and support extensive evaluations of changes effected through State-conducted, federally supervised pilot programs and permit initiatives; and recommend regulatory changes to the Secretary of Transportation. The FHWA believes that the significant scope of the program changes proposed in the report and their possible ramifications overshadows the need for publication of the NPRM at this time. The FHWA may address the issue of revising truck size and weight enforcement regulations at a later date once the TRB report has been reviewed and acted upon.

Conclusion

For the reasons stated above, the FHWA is terminating this rulemaking and closing the docket.

Authority: Sec. 123, Pub. L. 95-599, 92 Stat. 2689; 23 U.S.C. 127, 141, and 315; 49 U.S.C. 31111-31114; sec. 1023, Pub. L. 102-240, l05 Stat. 1914; and 49 CFR 1.48 (b) (19), (b) (23), (c) (1), and (c) (19).

Issued on: July 22, 2002.
Mary E. Peters,
Federal Highway Administrator.

[FR Doc. 02-18907 Filed 7-25-02; 8:45 am]

BILLING CODE 4910-22-P